SUSQUEHANNA RIVER BASIN COMMISSION

Notice of Actions Taken at September 11, 2008, Meeting

AGENCY: Susquehanna River Basin Commission.

ACTION: Notice of Commission Actions.

SUMMARY: At its regular business meeting on September 11, 2008, in Lewisburg, Pennsylvania, the Commission held a public hearing as part of its regular business meeting. At the public hearing, the Commission: (1) Approved certain water resources projects; (2) approved enforcement actions for six projects; and (3) granted a request for extension of an emergency certificate issued on July 24, 2008. Details concerning these and other matters addressed at the public hearing and business meeting are contained in the Supplementary Information section of this notice.

DATES: September 11, 2008.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) A special presentation on Bucknell University's Susquehanna River Initiative by Dr. Benjamin Hayes; (2) a special presentation on Environmental Flows by Mark Breyer of the Nature Conservancy; (3) a report on the present hydrologic conditions of the basin; (4) approval of a health insurance trust fund; (5) approval/ratification of various grants and contracts; (6) a directive for staff to move forward on a proposed rulemaking action regarding consumptive use by gas well development projects; (7) establishment of a “Compliance Reserve Fund” to hold the proceeds of settlements and civil penalty assessments; (8) deferral of action on an errata sheet for the public hearing transcript of March 13, 2008, to the December 4, 2008 meeting; and (9) appointment of Stephanie L. Richardson as the new Secretary to the Commission. The Commission also heard a Legal Counsel's report and an update on recent activities in the regulatory program.

The Commission also convened a public hearing and took the following actions:

Public Hearing—Projects Approved

1. Project Sponsor and Facility: East Resources, Inc. (Seeley Creek), Town of Southport, Chemung County, N.Y. Application for surface water withdrawal of up to 0.036 mgd.

2. Project Sponsor and Facility: Chesapeake Appalachia, LLC (for operations in Chemung and Tioga Counties, N.Y., and Bradford, Susquehanna, and Wyoming Counties, Pa.). Application for consumptive water use of up to 2.075 mgd from various surface water sources and the following public water suppliers: Towanda Municipal Authority, Aqua Pennsylvania, Inc.—Susquehanna Division, Canton Borough Authority, Borough of Troy, and Village of Horseheads, N.Y.

3. Project Sponsor and Facility: Chesapeake Appalachia, LLC (Susquehanna River), Town of Owego, Tioga County, N.Y. Application for surface water withdrawal of up to 0.999 mgd.

4. Project Sponsor and Facility: Cabot Oil & Gas Corporation (for operations in Susquehanna and Wyoming Counties, Pa.). Application for consumptive water use of up to 3.039 mgd from various surface water sources and the following public water suppliers: Tunkhannock Borough Municipal Authority, Pennsylvania American Water Company—Montrose System, and Meshoppen Borough Council.

5. Project Sponsor and Facility: Cabot Oil & Gas Corporation (Susquehanna River), Great Bend Borough, Susquehanna County, Pa. Application for surface water withdrawal of up to 0.980 mgd.

6. Project Sponsor and Facility: Chesapeake Appalachia, LLC (Susquehanna River), Athens Township, Bradford County, Pa. Application for surface water withdrawal of up to 0.999 mgd.

7. Project Sponsor and Facility: Chesapeake Appalachia, LLC (Susquehanna River), Oakland Township, Susquehanna County, Pa. Application for surface water withdrawal of up to 0.999 mgd.

8. Project Sponsor and Facility: Cabot Oil & Gas Corporation (Susquehanna River), Susquehanna Depot Borough, Susquehanna County, Pa. Application for surface water withdrawal of up to 0.980 mgd.

9. Project Sponsor and Facility: Fortuna Energy Inc. (Susquehanna River), Sheshequin Township, Bradford County, Pa. Application for surface water withdrawal of up to 0.250 mgd.

10. Project Sponsor and Facility: East Resources, Inc. (Crooked Creek), Middlebury Township, Tioga County, Pa. Application for surface water withdrawal of up to 0.036 mgd.

11. Project Sponsor and Facility: Chief Oil & Gas, LLC (for operations in Bradford County, Pa.). Application for consumptive use of water of up to 5.000 mgd.

12. Project Sponsor and Facility: Chesapeake Appalachia, LLC (Susquehanna River), Wysox Township, Bradford County, Pa. Application for surface water withdrawal of up to 0.999 mgd.

13. Project Sponsor and Facility: Cabot Oil & Gas Corporation (Unnamed Tributary to Meshoppen Creek), Dimock Township, Susquehanna County, Pa. Application for surface water withdrawal of up to 0.980 mgd.

14. Project Sponsor and Facility: Cabot Oil & Gas Corporation (Tunkhannock Creek), Lennox Township, Susquehanna County, Pa. Application for surface water withdrawal of up to 0.980 mgd.

15. Project Sponsor and Facility: Cabot Oil & Gas Corporation (Meshoppen Creek-2), Lemon Township, Wyoming County, Pa. Application for surface water withdrawal of up to 0.980 mgd.

16. Project Sponsor and Facility: Cabot Oil & Gas Corporation (Meshoppen Creek-1), Lemon Township, Wyoming County, Pa. Application for surface water withdrawal of up to 0.980 mgd.

17. Project Sponsor and Facility: Pennsylvania General Energy Company, LLC (operations in Potter and McKean Counties, Pa.). Application for consumptive water use of up to 4.900 mgd from various surface water sources and the following public water suppliers: Jersey Shore Joint Water Authority, Williamsport Municipal Water Authority, and Borough of Montoursville.

18. Project Sponsor and Facility: Pennsylvania General Energy Company, LLC (East Fork Sinnemahoning Creek—Horton), East Fork Township, Potter County, Pa. Application for surface water withdrawal of up to 0.008 mgd.

19. Project Sponsor and Facility: Chesapeake Appalachia, LLC (Susquehanna River), Mehoopany Township, Wyoming County, Pa. Application for surface water withdrawal of up to 0.999 mgd.

20. Project Sponsor and Facility: Pennsylvania General Energy Company, LLC (First Fork Sinnemahoning Creek), Sylvania Township, Potter County, Pa. Application for surface water withdrawal of up to 0.107 mgd.

21. Project Sponsor and Facility: Pennsylvania General Energy Company, LLC (East Fork Sinnemahoning Creek—East Fork), East Fork Township, Potter County, Pa. Application for surface water withdrawal of up to 0.025 mgd.

22. Project Sponsor and Facility: Pennsylvania General Energy Company, LLC (East Fork Sinnemahoning Creek), Wharton Township, Potter County, Pa. Application for surface water withdrawal of up to 0.027 mgd.

23. Project Sponsor and Facility: Cabot Oil & Gas Corporation (Susquehanna River), Tunkhannock Township, Wyoming County, Pa. Application for surface water withdrawal of up to 0.980 mgd.

24. Project Sponsor and Facility: Pennsylvania General Energy Company, LLC (First Fork Sinnemahoning Creek), Wharton Township, Potter County, Pa. Application for surface water withdrawal of up to 0.231 mgd.

25. Project Sponsor and Facility: Cabot Oil & Gas Corporation (Bowmans Creek), Eaton Township, Wyoming County, Pa. Application for surface water withdrawal of up to 0.980 mgd.

26. Project Sponsor and Facility: Neptune Industries, Inc. (Lackawanna River), Borough of Archbald, Lackawanna County, Pa. Application for surface water withdrawal of up to 0.499 mgd.

27. Project Sponsor and Facility: PEI Power Corporation, Borough of Archbald, Lackawanna County, Pa. Modification to consumptive water use and surface water withdrawal approval (Docket No. 20010406) for addition of up to 0.530 mgd from a public water supplier as a secondary supply source, and settlement of an outstanding compliance matter.

28. Project Sponsor and Facility: Range Resources—Appalachia, LLC (for operations in Bradford, Centre, Clinton, Lycoming, Sullivan, and Tioga Counties, Pa.). Application for consumptive water use of up to 5.000 mgd from various surface water sources and the following public water suppliers: Jersey Shore Joint Water Authority—Pine Creek and Anthony Facilities, Williamsport Municipal Water Authority, City of Lock Haven Water Department, Borough of Bellefonte, Borough of Montoursville, Milesburg Water System, and Towanda Municipal Authority.

29. Project Sponsor and Facility: Range Resources—Appalachia, LLC (Lycoming Creek), Lewis Township, Lycoming County, Pa. Application for surface water withdrawal of up to 0.200 mgd.

30. Project Sponsor and Facility: Range Resources—Appalachia, LLC (Lycoming Creek), Lycoming Township, Lycoming County, Pa. Application for surface water withdrawal of up to 0.200 mgd.

31. Project Sponsor and Facility: Chief Oil & Gas, LLC (for operations in Lycoming County, Pa.) Application for consumptive water use of up to 5.000 mgd from various surface water sources and the following public water suppliers: Jersey Shore Joint Water Authority—Pine Creek and Anthony Facilities, Williamsport Municipal Water Authority, Borough of Montoursville, and Towanda Municipal Authority.

32. Project Sponsor and Facility: Chief Oil & Gas, LLC (Muncy Creek), Penn Township, Lycoming County, Pa. Application for surface water withdrawal of up to 0.099 mgd.

33. Project Sponsor and Facility: Chief Oil & Gas, LLC (Larrys Creek), Mifflin Township, Lycoming County, Pa. Application for surface water withdrawal of up to 0.099 mgd.

34. Project Sponsor and Facility: Chief Oil & Gas, LLC (Muncy Creek), Picture Rocks Borough, Lycoming County, Pa. Application for surface water withdrawal of up to 0.099 mgd.

35. Project Sponsor and Facility: Chief Oil & Gas, LLC (Loyalsock Creek), Montoursville Borough, Lycoming County, Pa. Application for surface water withdrawal of up to 0.099 mgd.

36. Project Sponsor and Facility: Range Resources—Appalachia, LLC (West Branch Susquehanna River), Colebrook Township, Lycoming County, Pa. Application for surface water withdrawal of up to 0.200 mgd.

37. Project Sponsor and Facility: Rex Energy Corporation (for operations in Centre and Clearfield Counties, Pa.). Application for consumptive water use of up to 5.000 mgd from various surface water sources and the following public water supplier: Clearfield Municipal Authority.

38. Project Sponsor and Facility: Rex Energy Corporation (West Branch Susquehanna River), Goshen Township, Clearfield County, Pa. Application for surface water withdrawal of up to 5.000 mgd.

39. Project Sponsor and Facility: Range Resources—Appalachia, LLC (Beech Creek), Snow Shoe Township, Centre County, Pa. Application for surface water withdrawal of up to 0.200 mgd.

40. Project Sponsor and Facility: Rex Energy Corporation (Moshannon Creek—Route 53), Snow Shoe Township, Centre County, Pa. Application for surface water withdrawal of up to 2.000 mgd.

41. Project Sponsor and Facility: Rex Energy Corporation (Moshannon Creek Outfall), Snow Shoe Township, Centre County, Pa. Application for surface water withdrawal of up to 2.000 mgd.

42. Project Sponsor and Facility: Rex Energy Corporation (Moshannon Creek—Peale), Snow Shoe Township, Centre County, Pa. Application for surface water withdrawal of up to 2.000 mgd.

43. Project Sponsor: Suez Energy North America, Inc. Project Facility: Viking Energy of Northumberland, Point Township, Northumberland County, Pa. Modification to consumptive water use approval (Docket No. 19870301).

44. Project Sponsor: New Enterprise Stone & Lime Co., Inc. Project Facility: Tyrone Quarry, Warriors Mark Township, Huntingdon County, and Snyder Township, Blair County, Pa. Modification to consumptive water use and groundwater withdrawal approval (Docket No. 20031205) for groundwater withdrawals of 0.095 mgd from Well 1, 0.006 mgd from Well 2, and 0.050 mgd from Well 3, and 0.003 mgd from Well 5.

45. Project Sponsor and Facility: Papetti's Hygrade Egg Products, Inc., d.b.a. Michael Foods Egg Products Co., Upper Mahantango Township, Schuylkill County, Pa. Modification of consumptive water use approval (Docket No. 19990903) and a new groundwater withdrawal of 0.450 mgd from Well 3.

46. Project Sponsor: Old Castle Materials, Inc. Project Facility: Pennsy Supply, Inc.—Hummelstown Quarry, South Hanover Township, Dauphin County, Pa. Application for surface water withdrawal of up to 29.952 mgd.

47. Project Sponsor and Facility: Dart Container Corporation of Pennsylvania, Upper Leacock Township, Lancaster County, Pa. Modification of groundwater approval (Docket No. 20040910).

48. Project Sponsor: East Berlin Area Joint Authority. Project Facility: Buttercup Farms, Hamilton Township, Adams County, Pa. Applications for groundwater withdrawals (30-day averages) of 0.144 mgd from Well TW-1, 0.029 mgd from Well TW-2, and a total system withdrawal limit of 0.173 mgd.

Public Hearing—Projects Tabled

1. Project Sponsor and Facility: Chief Oil & Gas, LLC (Sugar Creek), West Burlington Township, Bradford County, Pa. Application for surface water withdrawal of up to 0.053 mgd.

2. Project Sponsor and Facility: Fortuna Energy Inc. (Sugar Creek), West Burlington Township, Bradford County, Pa. Application for surface water withdrawal of up to 0.250 mgd.

3. Project Sponsor and Facility: Fortuna Energy Inc. (Towanda Creek), Franklin Township, Bradford County, Pa. Application for surface water withdrawal of up to 0.250 mgd.

4. Project Sponsor and Facility: Chief Oil & Gas, LLC (Pine Creek), Cummings Township, Lycoming County, Pa. Application for surface water withdrawal of up to 0.099 mgd.

5. Project Sponsor and Facility: Rex Energy Corporation (Upper Little Surveyor Run), Girard Township, Clearfield County, Pa. Application for surface water withdrawal of up to 0.400 mgd.

6. Project Sponsor and Facility: Rex Energy Corporation (Lower Little Surveyor Run), Girard Township, Clearfield County, Pa. Application for surface water withdrawal of up to 0.400 mgd.

Public Hearing—Project Withdrawn

Project Sponsor and Facility: Cabot Oil & Gas Corporation (Martins Creek), Lathrop Township, Susquehanna County, Pa. Application for surface water withdrawal of up to 0.980 mgd.

Public Hearing—No Action

Project Sponsor: PPL Holtwood, LLC. Project Facility: Holtwood Hydroelectric Station, Martic and Conestoga Townships, Lancaster County, and Chanceford and Lower Chanceford Townships, York County, Pa. Applications for amendment to existing FERC license (FERC Project No. 1881) and for redevelopment of the project with modification of its operations on the lower Susquehanna River, including the addition of a second power station and associated infrastructure.

Public Hearing—Enforcement Actions

The Commission accepted settlement offers for the following projects:

1. Project Sponsor and Facility: Cabot Oil & Gas Corporation; Teel, Greenwood, Ely, Lewis and Black Wells; Dimock and Springfield Townships, Susquehanna County, Pa.

2. Project Sponsor and Facility: Chief Oil & Gas, LLC; Kensinger, Spotts, and Poor Shot Wells; Mifflin, Penn and Anthony Townships, Lycoming County, Pa.

3. Project Sponsor and Facility: EOG Resources, Inc.; Houseknecht, Olsyn and Pierce Wells; Springfield Township, Bradford County, Pa.; PHC Well, Lawrence Township, Clearfield County, Pa.; Leasgang and Pichler Wells, Jay Township, Elk County, Pa.

4. Project Sponsor and Facility: North Coast Energy, Inc.; Litke Wells, Burnside Township, Centre County, Pa.

5. Project Sponsor and Facility: Range Resources—Appalachia LLC; McWilliams, Bobst Mountain, Ogontz, and Ulmer Wells; Cogan House, Cummings and Lycoming Townships, Lycoming County, Pa.; Gulf USA Well, Snow Shoe Township, Centre County, Pa.; Duffey Well, Ridgebury Township, Bradford County, Pa.

6. Project Sponsor and Facility: Turm Oil, Inc., LaRue Well, Rush Township, Susquehanna County, Pa.

Public Hearing—Extension of Emergency Certificate

The Commission granted an extension of an Emergency Certificate until December 4, 2008, to the following project:

CAN DO, Inc., Hazle Township, Luzerne County, Pa.—Request to extend the use of Site 14 Test Well to serve Humbolt Industrial Park.

Authority: Public Law 91-575, 84 Stat. 1509 et seq., 18 CFR Parts 806, 807, and 808.

Dated: September 22, 2008.
Thomas W. Beauduy,
Deputy Director.

[FR Doc. E8-23079 Filed 9-30-08; 8:45 am]

BILLING CODE 7040-01-P